DEPARTMENT OF STATE

22 CFR Part 126

[Public Notice 4546]

Amendment to the International Traffic in Arms Regulations; Correction

November 25, 2003.

ACTION: Correction of final rule.

SUMMARY: This document makes a correction to the final rule published on November 21, 2003 (68 FR 65633). The regulation made changes to the prohibited exports and sales to certain countries at 22 CFR 126.1.

EFFECTIVE DATE: November 21, 2003.

FOR FURTHER INFORMATION CONTACT: Mary Sweeney, Office of Defense Trade Controls Management, Bureau of Political-Military Affairs, Department of State (202) 663-2700.

SUPPLEMENTARY INFORMATION: The Department of State published a final rule (Public Notice 4538) in the Federal Register of November 21, 2003, amending § 126.1 of the International Traffic in Arms Regulations.

In rule FR Doc. 03-29158 published on November 21, 2003 (68 FR 65633), make the following corrections.

1. On page 65633, third column, DATES: November 21, 2003. Comments will be accepted at any time.” should read “EFFECTIVE DATE: November 21, 2003.”

2. On page 65633, third column, “ADDRESSES: Interested parties are invited to submit written comments to the Department of State, Directorate of Defense Trade Controls, Office of Defense Trade Controls Management, ATTN: Regulatory Change, Angola and Iraq, 12th Floor, SA-1, Washington, DC 20522-0112.” should read ADDRESSES: Interested parties are invited to submit written comments to the Department of State, Directorate of Defense Trade Controls, Office of Defense Trade Controls Management, ATTN: Regulatory Change, Angola and Iraq, 12th Floor, SA-1, Washington, DC 20522-0112. Comments will be accepted at any time.”

Dated: November 25, 2003.
Holly West-Owen,
Federal Register Liaison, Department of State.

[FR Doc. 03-29818 Filed 11-28-03; 8:45 am]

BILLING CODE 4710-25-P